FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR Part 515, effective on the corresponding date shown below:

License Number: 018423N.

Name: AA Pacific, Inc.

Address: 1275 Anderson Avenue, Unit 6, Fort Lee, NJ 07024.

Date Revoked: August 25, 2006.

Reason: Failed to maintain a valid bond.

License Number: 016230N.

Name: A-P-A World Transport Corp.

Address: 545 Dowd Avenue, Elizabeth, NJ 07201

Date Revoked: July 25, 2006.

Reason: Surrendered license voluntarily.

License Number: 019207N.

Name: ASAV Uluslararasi Nakliyat Ve Ticaret Limited Sirketi.

Address: Mehmet Akif Caddesi 1. Sok No: 23 Daire 23 Sirinevler, Istanbul, 34180, Turkey.

Date Revoked: August 25, 2006.

Reason: Failed to maintain a valid bond.

License Number: 016939NF.

Name: Billings Freight Systems, Inc. dba BFS Global.

Address: 3101 Towercreek Pkwy, Suite 570, Atlanta, GA 30339.

Date Revoked: September 15, 2006.

Reason: Failed to maintain valid bonds.

License Number: 019122N and 019122F.

Name: Bluefreight Worldwide Logistics, Inc.

Address: 2840 Ficus Street, Pomona, CA 91766.

Date Revoked: July 29, 2006 and July 26, 2006.

Reason: Failed to maintain valid bonds.

License Number: 018589F.

Name: Cargo International Services, Inc.

Address: 18327 SW 151 Avenue, Miami, FL 33187

Revoked: April 29, 2004.

Reason: Surrendered license voluntarily.

License Number: 019135N.

Name: Convenant International Corp.

Address: 7860 NW 80th Street, Miami, FL 33166.

Date Revoked: August 5, 2006.

Reason: Failed to maintain a valid bond.

License Number: 018763F.

Name: Dietrich-Exccel, LLC dba Dietrich-Logistics Florida.

Address: 6701 NW 7th Street, Suite 135, Miami, FL 33126.

Date Revoked: September 14, 2006.

Reason: Failed to maintain a valid bond.

License Number: 018843N.

Name: Elite Shipping, Inc.

Address: 7140 NW Miami Court, Miami, FL 33150

Date Revoked: September 2, 2006.

Reason: Failed to maintain a valid bond.

License Number: 004130N.

Name: GSG Investment Inc. dba Worldwide Logistics Company dba WWL Trade Passage.

Address: 2411 Santa Fe Avenue, Unit C, Redondo Beach, CA 90278.

Date Revoked: August 26, 2006.

Reason: Failed to maintain a valid bond.

License Number: 016950NF.

Name: Global Cargo Corporation.

Address: 8470 NW 30th Terrace, Miami, FL 33122.

Date Revoked: September 23, 2006.

Reason: Failed to maintain valid bonds.

License Number: 002688F.

Name: International Import Export Service, Inc.

Address: 147-04 176th Street, Suite 2-W, Jamaica, NY 11434.

Date Revoked: August 20, 2006.

Reason: Failed to maintain a valid bond.

License Number: 007057N.

Name: Jet Dispatch (H.K.) Limited.

Address: New World Office Bldg., Rm. 1211-12, E. Wing T.S.T., Kowloon, Hong Kong.

Date Revoked: August 8, 2006.

Reason: Failed to maintain a valid bond.

License Number: 004573F.

Name: Krennerich International, Inc.

Address: 14655 Northwest Freeway, Suite 119, Houston, TX 77040.

Date Revoked: July 30, 2006.

Reason: Failed to maintain a valid bond.

License Number: 018410F.

Name: Onebin.Com, Inc.

Address: 3406 SW 26 Terrace, Unit C-10, Fort Lauderdale, FL 33312.

Date Revoked: September 20, 2006.

Reason: Failed to maintain a valid bond.

License Number: 004291F.

Name: Pantrac Transport Corp.

Address: Brooklyn Navy Yard, Bldg. #5, Suite 307, Flushing & Cumberland Ave., Brooklyn, NY 11205.

Date Revoked: August 27, 2006.

Reason: Failed to maintain a valid bond.

License Number: 016572F.

Name: Sea, Air & Truck Forwarding, Inc.

Address: 2534 Walnut Bend, Suite B, Houston, TX 77042.

Date Revoked: July 30, 2006.

Reason: Failed to maintain a valid bond.

License Number: 019094N.

Name: Sparrow Freight America, Inc. dba Seaswift America; Seaswift Freight Systems; SSA Logistics.

Address: 550 E. Carson Plaza Dr., Suite 108, Carson, CA 90746.

Date Revoked: August 25, 2006.

Reason: Failed to maintain a valid bond.

License Number: 012445N.

Name: South American Lines, Corporation.

Address: 3515 NW 114th Avenue, Miami, FL 33178.

Date Revoked: August 16, 2006.

Reason: Failed to maintain a valid bond.

License Number: 018599F.

Name: Starlift Logistics, Inc. dba Speed of Sound.

Address: 84 Colt Street, Irvington, NJ 07111.

Date Revoked: August 25, 2006.

Reason: Failed to maintain a valid bond.

License Number: 019142N.

Name: Transcom Express, Inc.

Address: 80 Broad Street, Suite 11M, Red Bank, NJ 07701.

Date Revoked: August 12, 2006.

Reason: Failed to maintain a valid bond.

License Number: 019390N.

Name: Trident Universal, Inc. dba Atlantic European Container Line.

Address: 18710 Chopin Drive, Lutz, FL 33558.

Date Revoked: August 11, 2006.

Reason: Failed to maintain a valid bond.

License Number: 004024F.

Name: Val-Mar International, Inc.

Address: 5010 SW. 119th Avenue, Cooper City, FL 33330.

Date Revoked: September 23, 2006.

Reason: Failed to maintain a valid bond.

License Number: 018525N.

Name: Valu Freight Consolidators, Inc.

Address: 1325 NW 21st Street, Miami, FL 33142.

Date Revoked: September 20, 2006.

Reason: Failed to maintain a valid bond.

Sandra L. Kusumoto,
Director, Bureau of Certification and Licensing.

[FR Doc. E6-16397 Filed 10-3-06; 8:45 am]

BILLING CODE 6730-01-P